DEPARTMENT OF DEFENSE

Office of the Secretary

Department of Defense Military Family Readiness Council; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the DoD Military Family Readiness Council (MFRC) will take place.

DATES: Open to the public Wednesday, April 29, 2020, from 10:00 a.m. to 12:00 p.m.

ADDRESSES: The address of this open meeting will be online. The phone number for the remote access is 800-309-1256, and the participant code is 305538. This information will also be posted on the DoD MFRC website at: http://www.militaryonesource.mil/those-who-support-mfrc.

FOR FURTHER INFORMATION CONTACT: William Story, (571) 372-5345 (Voice), (571) 372-0884 (Facsimile), OSD Pentagon OUSD P-R Mailbox Family Readiness Council, osd.pentagon.ousd-p-r.mbx.family-readiness-council@mail.mil (Email). Mailing address is Office of the Deputy Assistant Secretary of Defense (Military Community & Family Policy), Office of Family Readiness Policy, 4800 Mark Center Drive, Alexandria, VA 22350-2300, Room 3G15. Website: http://www.militaryonesource.mil/those-who-support-mfrc. The most up-to-date changes to the meeting agenda can be found on the website.

SUPPLEMENTARY INFORMATION: Due to circumstances beyond the control of the Department of Defense and the Designated Federal Officer, the Department of Defense Military Family Readiness Council was unable to provide public notification required by 41 CFR 102-3.150(a) concerning the meeting for April 29, 2020. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: This is the first meeting of the Council for Fiscal Year 2020 (FY2020). During this meeting the Director, Defense Health Agency, will present information to the Council including changes in dependent health care systems and implications for military family readiness.

Agenda: Opening Remarks; Administrative Items; Review of Written Submissions; Ethics Briefing; Focus Area Presentation: The Transformation of the Military Health System: Readiness, Reform, and the Priorities of the Defense Health Agency; Questions and Answers; Council Discussion; Closing Remarks. Note: Exact order may vary.

Meeting Accessibility: Members of the public who are interested in hearing the MFRC meeting may call in using the remote access number 800-309-1256 and participant code 305538.

Written Statements: Persons interested in providing a written statement for review and consideration by Council members attending the April 29 meeting must do so no later than close of business Wednesday, April 22, 2020, through the Council mailbox (osd.pentagon.ousd-p-r.mbx.family-readiness-council@mail.mil). Written statements received after this date will be provided to Council members in preparation for the next MFRC meeting. The Designated Federal Officer (DFO) will review all submitted written statements and provide copies to all MFRC members. Written statements should not include personally identifiable information such as names of adults and children, phone numbers, addresses, social security numbers, and other contact information within the body of the written statement.

Dated: April 17, 2020.
Aaron T. Siegel,
Alternate OSD Federal Register Liaison Officer, Department of Defense.

[FR Doc. 2020-08550 Filed 4-21-20; 8:45 am]

BILLING CODE 5001-06-P